DEPARTMENT OF HOUSING AND URBAN DEVELOPMENT

[Docket No. FR-6238-D-01]

Consolidated Delegation of Authority for the Government National Mortgage Association (Ginnie Mae)

AGENCY: Office of the Secretary, HUD.

ACTION: Notice of Delegation of Authority.

SUMMARY: This notice is issued to consolidate the authorities delegated from the Secretary to the President, Principal Executive Vice President, Executive Vice President and Chief Operating Officer, and Executive Vice President of Policy of the Government National Mortgage Association (Ginnie Mae).

DATES: Applicability Date: January 11, 2021.

FOR FURTHER INFORMATION CONTACT: Senior Vice President and Chief Risk Officer, Office of Enterprise Risk, Government National Mortgage Association, Department of Housing and Urban Development; Capitol View, 425 3rd Street, SW, 4th Floor; Washington, DC 20024; telephone number 202-475-4918 (this is not a toll-free number). Persons with hearing- or speech-impairments may access this number through TTY by calling the Federal Relay Service at 1-800-877-8339 (this is a toll-free number).

SUPPLEMENTARY INFORMATION: Ginnie Mae is a wholly owned U.S. Government corporation within the Department of Housing and Urban Development. Ginnie Mae's organic statute vests all the powers and duties of Ginnie Mae in the Secretary of HUD (12 U.S.C. 1723).

In Ginnie Mae's bylaws, the Secretary has delegated all the powers and duties of Ginnie Mae that were vested in the Secretary to Ginnie Mae. In previous Federal Register notices, the Secretary has delegated authority over Ginnie Mae to the Ginnie Mae President. Specifically, the Secretary has delegated: (1) All the Secretary's authority with respect to managing Ginnie Mae and Ginnie Mae's programs pursuant to title III of the National Housing Act (12 U.S.C. 1723 and 68 FR 41840); (2) Authority to waive regulations issued by the U.S. Department of Housing and Urban Development (73 FR 76674); (3) Authority to impose suspensions and debarments, with the concurrence of the General Counsel or his or her designee (54 FR 4913 and 63 FR 57133); and (4) The power to affix HUD's seal and authenticate documents (68 FR 41840).

This notice consolidates the functions that the Secretary has delegated to the Ginnie Mae President, while also delegating certain concurrent authority to Ginnie Mae's Principal Executive Vice President, Executive Vice President and Chief Operating Officer, and Executive Vice President of Policy. While the Secretary has delegated authority to these individuals, the Secretary retains authority under 12 U.S.C. 1723.

Section A. Consolidation of Authority Delegated

The Secretary hereby concurrently delegates authority to the President, the Principal Executive Vice President, Executive Vice President and Chief Operating Officer, and Executive Vice President of Policy of Ginnie Mae the following:

1. All powers and duties of Ginnie Mae, which are by law vested in the Secretary, except as otherwise provided in the Ginnie Mae bylaws (12 U.S.C. 1723; 24 CFR part 310, section 1.02; Bylaws of the Government National Mortgage Association, posted at www.ginniemae.gov);

2. All authority of the Secretary with respect to the management of Ginnie Mae and Ginnie Mae programs pursuant to title III of the National Housing Act (12 U.S.C. 1723; 68 FR 41840);

3. The power to impose suspensions and debarments, with the concurrence of the General Counsel (Section 7(d), Department of Housing and Urban Development Act, 42 U.S.C. 3535(d); 54 FR 4913; 63 FR 57133); and

4. The authority to authenticate documents and affix the seal of HUD to documents (68 FR 41840).

The Secretary hereby delegates authority to the President of Ginnie Mae the power to waive HUD regulations (Section 7(q), Department of Housing and Urban Development Act, 42 U.S.C. 3535(q); 73 FR 76674).

Section B. Authority to Redelegate

The Ginnie Mae President, Ginnie Mae Principal Executive Vice President, Ginnie Mae Executive Vice President and Chief Operating Officer, and Ginnie Mae Executive Vice President of Policy may redelegate the authorities delegated by the Secretary, except for the authority to waive HUD regulations. The authority to waive HUD regulations is reserved for the Ginnie Mae President, pursuant to the Department of Housing and Urban Development Act (42 U.S.C. 3535(q)), and may not be redelegated. However, if the Ginnie Mae President is absent from office then Ginnie Mae's Principal Executive Vice President, Executive Vice President and Chief Operating Officer, Executive Vice President of Policy, or other persons authorized to act in the President's absence may exercise the waiver authority of the President consistent with HUD's policies and procedures (73 FR 76674 and 66 FR 13944).

Section C. Authority Superseded

This delegation of authority supersedes all previous delegations of authority and redelegations of authority for Ginnie Mae, including the delegation of authority published in the Federal Register on January 18, 2018 (83 FR 2660). The Secretary may revoke the authority authorized herein, in whole or part, at any time.

Section D. Actions Ratified

The Secretary hereby ratifies all actions previously taken by the Ginnie Mae President, Ginnie Mae Principal Executive Vice President, Ginnie Mae Executive Vice President and Chief Operating Officer, and Ginnie Mae Executive Vice President of Policy that are consistent with the delegations of authority provided in this notice.

Authority: Section 7(d), Department of Housing and Urban Development Act (42 U.S.C. 3535(d)); 24 CFR part 310; Bylaws of the Government National Mortgage Association, posted at www.ginniemae.gov.

Benjamin S. Carson, Sr.,
Secretary.

[FR Doc. 2021-00692 Filed 1-13-21; 8:45 am]

BILLING CODE 4210-67-P